COMMISSION ON CIVIL RIGHTS

Agenda and Notice of Public Meeting of the California Advisory Committee

Notice is hereby given, pursuant to the provisions of the rules and regulations of the U.S. Commission on Civil Rights (Commission), and the Federal Advisory Committee Act (FACA), that a meeting of the California Advisory Committee to the Commission will convene at 10 a.m. and adjourn at 3:15 p.m. on Thursday, April 29, 2010, at the Kyoto Grand Hotel, 120 S. Los Angeles Street, Los Angeles, CA. The purpose of the meeting is for the Committee to receive a briefing regarding free speech on California college campuses and universities.

The briefing will be transcribed and a transcript of the proceedings will be produced and made available to the public. Members of the public are entitled to submit written comments and such comments will be considered part of the official transcript. Comments must be received in the Western Regional Office by May 31, 2010. The address is 300 N. Los Angeles St., Suite 2100, Los Angeles, CA 90012. Persons wishing to e-mail their comments may do so by submitting them to pminarik@usccr.gov. Persons who desire to obtain a copy of the agenda of the meeting or additional information should contact Angelina Trevino, Administrative Assistant, Western Regional Office, at (213) 894-3437 or by e-mail: atrevino@usccr.gov.

Hearing-impaired persons who will attend the meeting and require the services of a sign language interpreter should contact the Western Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above e-mail or street address.

The meeting will be conducted pursuant to the provisions of the rules and regulations of the Commission and FACA.

Dated in Washington, DC, March 23, 2010.
Peter Minarik,
Acting Chief, Regional Programs Coordination Unit.

[FR Doc. 2010-6695 Filed 3-25-10; 8:45 am]

BILLING CODE 6335-02-P